DEPARTMENT OF LABOR

Employment and Training Administration

[TA-W-71,654]

DeLong Sportswear, Pella, IA; Notice of Termination of Investigation

Pursuant to Section 221 of the Trade Act of 1974, as amended, an investigation was initiated in response to a petition filed on July 14, 2009 by an Iowa State Workforce Official on behalf of workers of DeLong Sportswear, Pella, Iowa.

The petitioner has requested that the petition be withdrawn. Accordingly, the investigation has been terminated.

Signed at Washington, DC, this 12th day of August 2009.
Richard Church,
Certifying Officer, Division of Trade Adjustment Assistance.

Editorial Note: This document was received by the Office of the Federal Register on December 3, 2009.

[FR Doc. E9-29175 Filed 12-7-09; 8:45 am]

BILLING CODE 4510-FN-P